DEPARTMENT OF TREASURY

Public Comment on Formulating and Conducting a Study on the Use of Biometrics and Other Similar Technologies to Combat Identity Theft

AGENCY: Department of the Treasury, Departmental Offices.

ACTION: Notice and request for comments.

SUMMARY: The recently enacted Fair and Accurate Credit Transactions Act of 2003 (FACT Act or Act) requires the Secretary of the Treasury ( Secretary) to conduct a study of the use of biometrics and other similar technologies to reduce the incidence and costs to society of identity theft by providing convincing evidence of who actually performed a given financial transaction. The Act also requires the Secretary to consult with a number of entities and the general public “in formulating and conducting the study.” In order to fulfill its obligations under the Act, the Department of the Treasury (Treasury) seeks public comment on how Treasury should formulate and conduct the study.

DATES: Comments must be received at the specific address(es) listed below on or before April 1, 2004.

ADDRESSES: Because paper mail in the Washington, DC area and at Treasury is subject to delay, please consider submitting your comments by e-mail. Commenters are encouraged to use the title “FACT Act Biometric Study” to facilitate the organization and distribution of comments. All submissions must be in writing or in electronic form. Please send e-mail comments to factabiometricstudy@do.treas.gov or facsimile transmissions to FAX Number (202) 622-2310 re: FACT Act Biometric Study. Comments sent by paper mail should be sent to: Susan Hart, Financial Economist, Office of Critical Infrastructure Protection and Compliance Policy, U.S. Department of the Treasury, Annex Room 3174, 1500 Pennsylvania Avenue, N.., Washington, DC 20220, ATTN: FACT Act Biometric Study. Anyone submitting comments is asked to include his or her name, address, telephone number, and if available, FAX number and e-mail address. Treasury will consider all timely comments, and will make all comments in their entirety, including any personally identifying information such as name and address, available for public inspection and copying. Please do not submit confidential commercial or financial information. Comments may be inspected at the Treasury Department Library, Room 1428, Main Treasury Building, 1500 Pennsylvania Avenue, NW., Washington, DC 20220. Before visiting the library, visitors must call (202) 622-0990 to arrange an appointment. (Treasury reserves the right to display all comments in their entirety electronically via the Internet, subject to Treasury's assessment at a later date of the practicability of managing and maintaining such a channel of access in this instance.)

FOR FURTHER INFORMATION CONTACT: Susan Hart, Financial Economist, Office of Critical Infrastructure Protection and Compliance Policy, Department of the Treasury, (202) 622-0129.

SUPPLEMENTARY INFORMATION:

I. Background

The President signed the FACT Act into law on December 4, 2003, Public Law 108-159, 117 Stat. 1952. The FACT Act amends the Fair Credit Reporting Act (15 U.S.C. 1681 et seq.), and will provide consumers, companies, consumer reporting agencies, and regulators with new tools that enhance the accuracy of consumers' financial information and help fight identity theft. These reforms make permanent the uniform national standards that support our credit markets, and institute new consumer protections.

Section 157 of the Act provides that the “Secretary of the Treasury shall conduct a study of the use of biometrics and other similar technologies to reduce the incidence and costs to society of identity theft by providing convincing evidence of who actually performed a given financial transaction.” Section 157 further requires the Secretary to submit a report to Congress containing the findings and conclusions of the study, together with recommendations for legislative or administrative actions as may be appropriate, within 180 days from the date of enactment of the Act. Section 157 also requires the Secretary to “consult with Federal banking agencies, the Federal Trade Commission, and representatives of financial institutions, consumer reporting agencies, Federal, State, and local government agencies that issue official forms or means of identification, State prosecutors, law enforcement agencies, the biometric industry, and the general public in formulating and conducting the study.”

II. Request for Comments

This request for comment is issued pursuant to the requirement in section 157 that Treasury consult broadly in formulating and conducting the study on the use of biometric and other similar technologies. (Other means of consultation in formulating and conducting the study will also be used.) Treasury seeks comment on the questions set forth below and requests that respondents label comments with the corresponding question number and letter to which the comment relates. Additional relevant comments are welcome.

1. a. What range of biometric solutions could the private sector use to reduce the incidence and costs to society of identity theft by providing convincing evidence of who performed a given financial transaction?

b. How are biometric technologies being applied now to reduce the costs and incidence of identity theft?

c. What other technologies are being applied now to reduce the costs and incidence of identity theft?

d. What biometric technologies could be applied in the future to reduce the cost and incidence of identity theft?

e. Does the private sector have adequate incentives to adopt biometric and other technologies to reduce the costs and incidence of identity theft?

2. a. What is the rate of adoption by the financial services industry of biometric solutions for the purpose of verifying or authenticating who performed a given financial transaction? By other industries?

b. What is the rate of adoption of other similar technology solutions provided by the private sector for the same or similar purpose?

3. What are the public's concerns with the use of biometrics?

4. What are the costs of the use of biometrics? What are the risks of using biometrics?

5. What are the tradeoffs for the consumer in using biometrics?

6. What are the benefits to consumers of the use of biometrics?

7. a. What has been the experience of industries that have used biometrics for the purpose of providing convincing evidence of who performed a given financial transaction? What has been the customer reaction?

b. What has been the experience of industries that have used other similar technologies for the same or similar purpose? What has been customer reaction?

8. What barriers are there to the greater use of biometric and other technologies to reduce the cost and incidence of identity theft?

Dated: February 25, 2004.
Michael A. Dawson,
Deputy Assistant Secretary, Department of the Treasury.

[FR Doc. 04-4604 Filed 3-1-04; 8:45 am]

BILLING CODE 4810-25-P